DEPARTMENT OF ENERGY

Federal Energy Regulatory Commission

[Docket No. EC01-154-000]

Virginia Electric and Power Company, dba Dominion North Carolina Power; Notice of Filing

September 21, 2001.

Take notice that on September 12, 2001, Virginia Electric and Power Company doing business in North Carolina as Dominion North Carolina Power (the Applicant) filed an application pursuant to Section 203 of the Federal Power Act for authorization and approval for the Applicant to sell to Tideland Electric Membership Corporation (TEMC) a certain parcel of land located in Beaufort County, North Carolina, and certain personal property currently belonging to the Applicant located on the real property, including a transformer, 115kV bus and structures, and associated equipment.

The Applicant states that copies of this application were served on the North Carolina Utilities Commission and the Virginia State Corporation Commission.

Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions and protests should be filed on or before October 3, 2001. Protests will be considered by the Commission to determine the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-24143 Filed 9-26-01; 8:45 am]

BILLING CODE 6717-01-P